DEPARTMENT OF AGRICULTURE

Rural Utilities Service

Announcement of Grant Application Deadlines and Funding Levels; Correction

AGENCY: Rural Utilities Service, USDA.

ACTION: Notice; correction.

SUMMARY: USDA Rural Development administers rural utilities service through the Rural Utilities Service. USDA Rural Development published a document in the Federal Register of March 16, 2006, concerning solicitation of applications for its Public Television Digital Transition Grant Program application window for fiscal year (FY) 2006. The document contained incorrect criteria scoring information.

FOR FURTHER INFORMATION CONTACT: Orren E. Cameron III, Director, Advanced Services Division, Telecommunications, USDA Rural Development, U.S. Department of Agriculture, telephone: (202) 690-4493, fax: (202) 720-1051.

Correction

In the Federal Register of March 16, 2006, in FR Doc. E6-3780, on page 13578, in the third column, correct the “V. Application Review Information, A. Criteria” caption to read:

V. Application Review Information

A. Criteria

1. Grant applications are scored competitively and subject to the criteria listed below.

2. Grant application scoring criteria are detailed in 7 CFR 1740.8. There are 100 points available, broken down as follows:

a. The Rurality of the Project (up to 50 points);

b. The Economic Need of the Project's Service Area (up to 25 points); and

c. The Critical Need for the Project, and of the applicant, including the benefits derived from the proposed service (up to 25 points).

Dated: April 26, 2006.
James M. Andrew,
Administrator, Rural Utilities Service.

[FR Doc. E6-6744 Filed 5-3-06; 8:45 am]

BILLING CODE 3410-15-P